DEPARTMENT OF JUSTICE

Notice of Lodging of Consent Decree for Payment of Civil Penalty and Surrender of Sulfur Dioxide Allowances Under the Clean Air Act

Under 28 C.F.R. 50.7, notice is hereby given that on July 31, 2000, a proposed Consent Decree in United States v. Interstate Power Company, Civil Action No. C00-1022MJM, was lodged with the United States District Court for the Northern District of Iowa.

In this action, the United States seeks injunctive relief and civil penalties for Interstate Power Company's (“IPC”) violations of the Clean Air Act, 42 U.S.C. 7413(b)(2), and regulations promulgated pursuant to this Act at 40 CFR 72, 75, and 76. The allegations concern IPC's failure to outfit specified boilers at its power plants in Lansing and Dubuque, Iowa, with continuous emission monitoring systems and to apply for Acid Rain permits. IPC has come into compliance with the Clean Air Act by installing the monitoring systems and obtaining the Acid Rain permits.

Under the Consent Decree, IPC will pay a civil penalty of $200,000 and surrender to the EPA Enforcement Surrender Account 1474 sulfur dioxide (“SO2”) allowances as defined under the Acid Deposition Control provisions of Title IV of the Clean Air Act. Under the provisions of Title IV, each allowance permits a unit to emit, during or after a specified calendar year, one ton of “SO 2”. The United States and IPC agree that the cost of the surrender of allowances to IPC is $135.00 per SO2 allowance, based on recent market value combined with a historical five year average. Therefore, the total cost to IPC for its surrender of 1474 SO2 allowances is $198,990. United States and IPC agree that the surrender of the SO2 allowances will secure significant environmental and public health benefits by preventing the emission of 1474 tons of sulfur dioxide.

The Department of Justice will receive, for a period of thirty (30) days from the date of this publication, comments relating to the Consent Decree. Comments should be addressed to the Assistant Attorney General of the Environmental and Natural Resources Division, Department of Justice, Washington, D.C. 20530, and should refer to United States v Interstate Power Company, DOJ #90-5-2-1-06716.

The Consent Decree may be examined at the Office of the United States Attorney, 401 1st St. SE, Cedar Rapids, Iowa 52401; at EPA Region VII, 901 N. 5th Street, Kansas City, KS 66101; or can be obtained by mail from the Consent Decree Library, P.O. Box 7611, United States Department of Justice, Washington, D.C. 20044-7611. In requesting a copy, please enclose a check of $4.75 (25 cents per page reproduction cost) payable to the Consent Decree Library.

Stephen J. Rapp,
United States Attorney, Northern District Iowa.

[FR Doc. 00-20077 Filed 8-8-00; 8:45 am]

BILLING CODE 4410-07-M